DEPARTMENT OF TRANSPORTATION

Office of the Secretary

Aviation Proceedings, Agreements Filed During the Week Ending April 7, 2000

The following Agreements were filed with the Department of Transportation under the provisions of 49 U.S.C. Sections 412 and 414. Answers may be filed within 21 days after the filing of the application.

Docket Number: OST-2000-7203.

Date Filed: April 5, 2000.

Parties: Members of the International Air Transport Association.

Subject:

PTC COMP 0609 dated 31 March 2000

Mail Vote 074—Resolution 024j

Special Construction Rules (Amending)

Intended effective date: 15 April 2000

Andrea M. Jenkins,
Federal Register Liaison.

[FR Doc. 00-11687 Filed 5-9-00; 8:45 am]

BILLING CODE 4910-62-P